ENVIRONMENTAL PROTECTION AGENCY

[EPA-HQ-OECA-2013-0334; FRL-9953-08-OEI]

NSPS for Secondary Brass and Bronze Production, Primary Copper Smelters, Primary Zinc Smelters, Primary Lead Smelters, Primary Aluminum Reduction Plants, and Ferroalloy Production Facilities (Renewal)

AGENCY: Environmental Protection Agency (EPA).

ACTION: Notice.

SUMMARY: The Environmental Protection Agency has submitted an information collection request (ICR), “NSPS for Secondary Brass and Bronze Production (40 CFR part 60, subpart M), Primary Copper Smelters (40 CFR part 60, subpart P), Primary Zinc Smelters (40 CFR part 60, subpart Q), Primary Lead Smelters (40 CFR part 60, subpart R), Primary Aluminum Reduction Plants (40 CFR part 60, subpart S), and Ferroalloy Production Facilities (40 CFR part 60, subpart Z) (Renewal)” (EPA ICR No. 1604.11, OMB Control No. 2060-0110), to the Office of Management and Budget (OMB) for review and approval in accordance with the Paperwork Reduction Act (44 U.S.C. 3501 et seq.). This is a proposed extension of the ICR, which is currently approved through November 30, 2016. Public comments were previously requested via the Federal Register (81 FR 26546) on May 3, 2016 during a 60-day comment period. This notice allows for an additional 30 days for public comments. A fuller description of the ICR is given below, including its estimated burden and cost to the public. An Agency may neither conduct nor sponsor, and a person is not required to respond to, a collection of information unless it displays a currently valid OMB control number.

DATES: Additional comments may be submitted on or before December 19, 2016.

ADDRESSES: Submit your comments, referencing Docket ID Number EPA-HQ-OECA-2013-0334, to: (1) EPA online using www.regulations.gov (our preferred method), by email to docket.oeca@epa.gov, or by mail to: EPA Docket Center, Environmental Protection Agency, Mail Code 28221T, 1200 Pennsylvania Ave. NW., Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Patrick Yellin, Monitoring, Assistance, and Media Programs Division, Office of Compliance, Mail Code 2227A, Environmental Protection Agency, 1200 Pennsylvania Ave. NW., Washington, DC 20460; telephone number: (202) 564-2970; fax number: (202) 564-0050; email address: yellin.patrick@epa.gov.

SUPPLEMENTARY INFORMATION: Supporting documents, which explain in detail the information that the EPA will be collecting, are available in the public docket for this ICR. The docket can be viewed online at www.regulations.gov or in person at the EPA Docket Center, EPA West, Room 3334, 1301 Constitution Ave. NW., Washington, DC. The telephone number for the Docket Center is 202-566-1744. For additional information about EPA's public docket, visit: http://www.epa.gov/dockets.

Abstract: Owners and operators of secondary brass and bronze production, primary copper smelters, primary zinc smelters, primary lead smelters, primary aluminum reduction plants, and ferroalloy production facilities are required to comply with reporting and record keeping requirements for the General Provisions (40 CFR part 60, subpart A), as well as for the applicable standards in 40 CFR part 60, subparts M, P, Q, R, S, and Z, respectively. This includes submitting initial notifications, performance tests and periodic reports and results, and maintaining records of the occurrence and duration of any startup, shutdown, or malfunction in the operation of an affected facility, or any period during which the monitoring system is inoperative. These reports are used by EPA to determine compliance with the standards.

Form Numbers: None.

Respondents/Affected Entities: Secondary brass and bronze production, primary copper smelters, primary zinc smelters, primary lead smelters, primary aluminum reduction plants, and ferroalloy production facilities.

Respondent's Obligation to Respond: Mandatory (40 CFR part 60 Subparts M, P, Q, R, S, and Z).

Estimated Number of Respondents: 18 (total).

Frequency of Response: Initially, monthly, semiannually and annually.

Total Estimated Burden: 3,880 hours (per year). Burden is defined at 5 CFR 1320.3(b).

Total Estimated Cost: $527,000 (per year), which includes $127,000 in either annualized capital/startup or operation & maintenance costs.

Changes in the Estimates: There is an overall decrease in the respondent labor hours and costs compared to the estimated burden currently identified in the OMB Inventory of Approved Burdens. This decrease is not due to any program changes, but is a result of corrections. First, the previous ICR assumed all five secondary brass and bronze production sources subject to Subpart M would comply with the opacity standard using the Reference Method 9 performance test instead of continuous opacity monitoring (COM), and that the sources are not using any other continuous monitoring systems (CMS). However, the ICR included burden estimates for monitoring emissions and system performance associated with CMS and COM. Correcting this error consequently reduced the total labor hours for Subpart M.

Second, the previous ICR incorrectly estimated that all four primary aluminum reduction plants subject to Subpart S would need to submit performance test results every month. This estimate is incorrect because only two out of four sources are required to perform monthly performance tests, and the other two sources are allowed to perform an annual performance test. Therefore, the requirement to submit performance test results was reduced to once per year for two sources, which consequently reduced the total labor hours for Subpart S.

There is, however, a small adjustment increase in the total labor hours for Subparts P, Q, R, and Z due to a change in assumption; this ICR assumes all existing sources will need to re-familiarize with the regulation each year, even when the burden for Subpart R is now zero due to Doe Run no longer being a primary lead smelter.

Courtney Kerwin,
Director, Regulatory Support Division.

[FR Doc. 2016-27577 Filed 11-16-16; 8:45 am]

BILLING CODE 6560-50-P